DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 23, 2009.

Interested persons are invited to submit written comments regarding the subject matter of the investigations to the Director, Division of Trade Adjustment Assistance, at the address shown below, not later than November 23, 2009.

The petitions filed in this case are available for inspection at the Division of Trade Adjustment Assistance, Employment and Training Administration, U.S. Department of Labor, Room N-5428, 200 Constitution Avenue, NW., Washington, DC 20210.

Signed at Washington, DC, this 3rd day of November 2009.
Richard Church,
Certifying Officer, Division of Trade Adjustment Assistance.

APPENDIX
[TAA Petitions instituted between 10/19/09 and 10/23/09]
TA-W | Subject firm (petitioners) | Location | Date of institution | Date of petition
72609 | Valeo Climate Control Corporation (Wkrs) | Auburn Hills, MI | 10/19/09 | 10/16/09
72610 | Brand Science, LLC (Comp) | Stearns, KY | 10/19/09 | 10/16/09
72611 | Ryder Systems, Inc. (Wkrs) | Auburn Hills, MI | 10/19/09 | 10/15/09
72612 | Pikotek (State) | Wheat Ridge, CO | 10/19/09 | 10/16/09
72613 | Bruckner Supply (Wkrs) | Glasgow, KY | 10/19/09 | 10/16/09
72614 | Parker-Hannifin Corporation (Portland Cylinder Division) (Wkrs) | Portland, OR | 10/19/09 | 10/09/09
72615 | International Thermal Systems (Wkrs) | West Milwaukee, WI | 10/19/09 | 10/16/09
72616 | Occupational Healthlab, Inc. (Comp) | Silver City, NM | 10/19/09 | 10/15/09
72617 | Bay Creek Mfg., Inc. (Comp) | Summersville, MO | 10/19/09 | 10/16/09
72618 | Baker Furniture (Wkrs) | Highpoint, NC | 10/19/09 | 10/16/09
72619 | ITW Shippers Paper Products (Wkrs) | Mt. Pleasant, TN | 10/20/09 | 10/19/09
72620 | Brand Science, LLC (Comp) | Dandridge, TN | 10/20/09 | 10/19/09
72621 | Agr International, Inc. (Comp) | Butler, PA | 10/20/09 | 10/16/09
72622 | Standard Steel Specialty Company (Union) | Beaver Falls, PA | 10/20/09 | 10/19/09
72623 | DELL (Other) | Miami, FL | 10/20/09 | 10/16/09
72624 | Impress USA (Union) | Weirton, WV | 10/20/09 | 10/15/09
72625 | Superior Sewing, Inc. (Comp) | Salem, AR | 10/20/09 | 10/16/09
72626 | Flextronics (Comp) | Durham, NC | 10/20/09 | 10/19/09
72627 | Millwork Distributors (One) | Oshkosh, WI | 10/20/09 | 10/19/09
72628 | BASF Corporation (Comp) | Belvidere, NJ | 10/20/09 | 10/19/09
72629 | Marmon/Keystone Corporation (Union) | Bolingbrook, IL | 10/20/09 | 10/13/09
72630 | Daedalus Technologies Inc. (Comp) | Kennesaw, GA | 10/20/09 | 10/10/09
72631 | Jin Feng Sewing Company, Inc. (Wkrs) | San Francisco, CA | 10/20/09 | 10/12/09
72632 | Modine Manufacturing Company (Wkrs) | Camdenton, MO | 10/20/09 | 09/28/09
72633 | H.B. Fuller (Wkrs) | Blue Ash, OH | 10/21/09 | 10/15/09
72634 | Cimarron Energy, Inc. (Wkrs) | Norman, OK | 10/21/09 | 10/20/09
72635 | ABB, Inc. (Comp) | Wickliffe, OH | 10/21/09 | 10/20/09
72636 | Dukes Titan Aviation, LLC (Comp) | Findlay, OH | 10/21/09 | 10/20/09
72637 | Lynn Ladder and Scaffolding Company (Comp) | Orwigsburg, PA | 10/21/09 | 10/20/09
72638 | AVX Corporation (Wkrs) | Myrtle Beach, SC | 10/21/09 | 09/30/09
72639 | Faurecia Seating (Comp) | Shelby Township, MI | 10/21/09 | 10/20/09
72640 | National Spinning Company, Inc. (Comp) | Washington, NC | 10/21/09 | 10/20/09
72641 | Chandler Lake, Inc. (Comp) | Ashland, ME | 10/21/09 | 10/19/09
72642 | Maui Process Technologies (Comp) | Makawao, HI | 10/21/09 | 10/15/09
72643 | Seagate Technology (Wkrs) | Scotts Valley, CA | 10/21/09 | 05/29/09
72644 | C&R Oilfield Service, Inc. (Comp) | San Angelo, TX | 10/22/09 | 10/20/09
72645 | Enterprise Tool and Die (Comp) | Grandville, MI | 10/22/09 | 10/21/09
72646 | Michigan Mechanical Services, Inc. (Comp) | Taylor, MI | 10/22/09 | 10/21/09
72647 | Graphic Packaging International, Inc. (Union) | Wellsburg, WV | 10/22/09 | 10/21/09
72648 | Fisher and Paykel Laundry Manufacturing, Inc. (Comp) | Clyde, OH | 10/22/09 | 10/12/09
72649 | Contech Castings, LLC (Wkrs) | Dowagiac, MI | 10/22/09 | 10/19/09
72650 | TI Group Automotive Systems (Comp) | Winchester, KY | 10/22/09 | 10/21/09
72651 | EDS an HP Company (Wkrs) | Vandalia, OH | 10/22/09 | 09/22/09
72652 | Legacy, Inc. (Wkrs) | Winston-Salem, NC | 10/22/09 | 10/13/09
72653 | Da-Tech Corporation (Wkrs) | Ivyland, PA | 10/22/09 | 09/24/09
72654 | Mt. Vernon Neon (State) | Mt. Vernon, IL | 10/22/09 | 10/15/09
72655 | Welco Lumber Company (Wkrs) | Naples, ID | 10/23/09 | 10/22/09
72656 | Chemtrade Logistics (Wkrs) | Kalama, WA | 10/23/09 | 10/22/09
72657 | Hilton Reservations and Customer Care—Hazleton (Wkrs) | Hazleton, PA | 10/23/09 | 10/19/09
72658 | The Hartford (Wkrs) | Charlotte, NC | 10/23/09 | 10/22/09
72659 | DTR Industries, Inc (Comp) | Bluffton, OH | 10/23/09 | 10/22/09
72660 | TECT Power (Wkrs) | Newinton, CT | 10/23/09 | 10/19/09
72661 | AirComp, LLC (Wkrs) | San Angelo, TX | 10/23/09 | 10/22/09
72662 | Monopanel Technologies (Wkrs) | West Allis, WI | 10/23/09 | 10/22/09
72663 | Mid-States Tool and Machine, Inc. (Comp) | Decatur, IN | 10/23/09 | 10/22/09
72664 | Bay Creek Manufacturing, Inc. (Comp) | Mountain View, MO | 10/23/09 | 10/22/09

[FR Doc. E9-27105 Filed 11-10-09; 8:45 am]

BILLING CODE 4510-FN-P